DEPARTMENT OF HEALTH AND HUMAN SERVICES

National Institutes of Health

National Institute of Neurological Disorders and Stroke Proposed Reorganization

AGENCY: National Institutes of Health, HHS.

ACTION: Notice.

SUMMARY: The National Institute of Neurological Disorders and Stroke (NINDS) will host two public online forums to enable public discussion of the Institute's proposals to reorganize its Division of Translational Research, Division of Clinical Research, and functions within its Division of Extramural Activities. The proposals seek to more accurately represent the activities performed within the Institute's Extramural Research Programs, clarify roles and responsibilities, and improve the coordination of the scientific activities within the Institute. The online forums will allow members of the public to review the reorganization proposals and submit comments.

DATES: The first online public forum will take place on October 26, 2022. The second online public forum will become available on October 31, 2022, and will remain open for 5 calendar days, through November 04, 2022.

ADDRESSES: The first public forum will be held online at https://nih.zoomgov.com/j/1602654140?pwd=ckR3b3l0ZFdxcWFQMEFKa0pLSGlRQT09, on the date listed above. The second public forum will be held online, at: https://www.ninds.nih.gov/extramural-organizational-change for the period of time listed above.

FOR FURTHER INFORMATION CONTACT: Laurie Torchinsky, Management Analyst, National Institute of Neurological Disorders and Stroke, NIH, Laurie.Torchinsky@nih.gov or 301-827-5291.

SUPPLEMENTARY INFORMATION: The NIH Reform Act of 2006 (42 U.S.C. Sec. 281(d)(4)) requires public notice of proposed reorganization plans. This announcement and the public forum serve as that notice.

Walter J. Koroshetz,
Director, National Institute of Neurological Disorders and Stroke, National Institutes of Health.

[FR Doc. 2022-21427 Filed 10-3-22; 8:45 am]

BILLING CODE 4140-01-P